INTERNATIONAL BOUNDARY AND WATER COMMISSION, UNITED STATES AND MEXICO

United States Section; Notice of Availability of Final Environmental Impact Statement, River Management Alternatives for the Rio Grande Canalization Project, Sierra and Doña Ana Counties, NM and El Paso County, TX

AGENCY: United States Section, International Boundary and Water Commission, United States and Mexico.

ACTION: Notice of availability of Final Environmental Impact Statement.

SUMMARY: Pursuant to section 102(2)(c) of the National Environmental Policy Act (NEPA) of 1969, as amended, the United States Section, International Boundary and Water Commission (USIBWC), in cooperation with the United States Bureau of Reclamation (USBR), has prepared a Final Environmental Impact Statement (FEIS) on River Management Alternatives for the Rio Grande Canalization Project (RGCP) located in Sierra and Doña Ana Counties, NM and El Paso County, TX. The FEIS analyzes effects of the No Action Alternative and three action alternatives on the future RGCP operation, maintenance, and implementation of environmental measures. No final action will be taken on this proposal during the 30 days following the filing of this FEIS, in accordance with the Council on Environmental regulations, 40 CFR 1506.10(b)(2).

ADDRESSES: Copies of the FEIS are available for inspection and review at the following locations: Branigan Memorial Library, 200 East Picacho Avenue, Las Cruces, New Mexico; El Paso Public Library, 501 North Oregon Street, El Paso, Texas; New Mexico State University Library, Las Cruces, New Mexico; University Library, The University of Texas at El Paso, El Paso, Texas; and United States Section, International Boundary and Water Commission, 4171 North Mesa Street, El Paso, Texas. A copy of the FEIS will also be posted at the USIBWC site at http://www.ibwc.state.gov “IBWC News.”

FOR FURTHER INFORMATION CONTACT: Mr. Douglas Echlin, Lead Environmental Protection Specialist, Environmental Management Division, USIBWC, 4171 North Mesa Street, C-100, El Paso, Texas 79902 or call 915/832-4741.

SUPPLEMENTARY INFORMATION: The USIBWC evaluated long-term river management alternatives for the RGCP, a narrow river corridor that extends 105.4 river miles along the Rio Grande, from below Percha Dam in Sierra County, New Mexico to American Dam in El Paso County, Texas. The RGCP is operated and maintained by the USIBWC and was constructed to facilitate water deliveries to the Rincon and Mesilla Valleys in New Mexico, El Paso Valley in Texas, and Juarez Valley in Mexico. The project also includes a levee system for flood control.

The USIBWC currently implements operation and maintenance procedures to enhance ecosystem functions within the RGCP; however, alterations to the river and floodway from events that pre-date RGCP construction continue to affect the river and floodway. Therefore, USIBWC recognizes the need to accomplish flood control, water delivery, and operations and maintenance activities in a manner that enhances and restores the riparian ecosystem, if possible.

River management alternatives were considered and developed over an extensive public consultation process that included input from the general public and stakeholders such as regulatory agencies, irrigation districts, farmers, and environmental organizations. The No Action Alternative and three potential action alternatives were selected for further evaluation. Levee rehabilitation, changes associated with grazing leases to improve erosion control, floodway management, and river restoration including aquatic habitat diversification and riparian vegetation development are measures considered in the action alternatives. The Preferred Alternative is the Integrated USIBWC Land Management Alternative representing the best balance of flood control, water delivery and habitat enhancement.

The FEIS has been filed with the Environmental Protection Agency (EPA) in accordance with 40 CFR parts 1500-1508 and USIBWC procedures. No action will be taken on the proposed action before 30 days following publication of the notice of availability of the FEIS by EPA in the Federal Register. A Record of Decision will be issued on this proposal after the minimum 30 days following the filing of the FEIS by the EPA.

Dated: June 29, 2004.
Susan Daniel,
Legal Advisor.

[FR Doc. 04-15224 Filed 7-2-04; 8:45 am]

BILLING CODE 4710-03-P